DEPARTMENT OF HEALTH AND HUMAN SERVICES

Administration for Community Living

Announcing the Intent To Award a Sole-Source Supplement for the Christopher and Dana Reeve Foundation

ACTION: Notice of intent to award a sole source supplement to the Christopher and Dana Reeve Foundation.

SUMMARY: The Administration for Community Living (ACL) is announcing the award of a sole-source supplement for the National Paralysis Resource Center (PRC) as a result of the 2023 Congressional budget appropriations. The National Paralysis Resource Center is operated by the Christopher and Dana Reeve Foundation and offers important programmatic opportunities for persons with disabilities and older adults. The NPRC provides comprehensive information for people living with spinal cord injury, paralysis, and mobility-related disabilities and their families. Resources include information and referral by phone and email in multiple languages; a peer and family support mentoring program; a military and veterans' program; multicultural outreach services; multiple quality of life grants; and a national website. The administrative supplement for FY 2023 will be in the amount of $1,300,000, bringing the total award for FY 2023 to $10,000,000.

SUPPLEMENTARY INFORMATION:

Program Name: National Paralysis Resource Center.

Recipient: Christopher and Dana Reeve Foundation.

Period of Performance: The supplement award will be issued for the second year of a five-year project period, July 1, 2023, through June 30, 2024.

Award Amount: $1,300,000.

Award Type: Cooperative Agreement.

Statutory Authority: This program is authorized under section 317 of the Public Health Service Act (42 U.S.C. 247(b-4)); Consolidated and Further Continuing Appropriations Act, 2016, Public Law 114-113 (Dec. 18, 2015).

CFDA Number: 93.325 Discretionary Projects.

The purpose of the supplemental funding is to support the expansion the National Paralysis Resource Center to improve the health and quality of life of individuals living with paralysis and their families by raising awareness of and facilitating access to a broad range of services relevant to individuals with paralysis. With the additional funding, the NPRC will work to expand the National Resource and Information Center; increase the health and quality of life of Americans with disabilities living with paralysis; increase support and resources to people with paralysis, their families and caregivers; expand collaboration with federal agencies and other national organizations that have a vested interested in the paralysis community; and strengthen performance measures.

Dated: June 30, 2023.
Alison Barkoff,
Acting Administrator and Assistant Secretary for Aging.

[FR Doc. 2023-14335 Filed 7-6-23; 8:45 am]

BILLING CODE 4154-01-P